DEPARTMENT OF THE INTERIOR

National Park Service

[NPS-WASO-NAGPRA-NPS0032261; PPWOCRADN0-PCU00RP14.R50000]

Notice of Inventory Completion: Alutiiq Museum & Archaeological Repository, Kodiak, AK

AGENCY: National Park Service, Interior.

ACTION: Notice.

SUMMARY: The Alutiiq Museum & Archaeological Repository has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Alutiiq Museum & Archaeological Repository. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Alutiiq Museum & Archaeological Repository at the address in this notice by August 18, 2021.

FOR FURTHER INFORMATION CONTACT: Dr. April Laktonen Counceller, Alutiiq Museum & Archaeological Repository, 215 Mission Road First Floor, Kodiak, AK 99615, telephone (844) 425-8844, email april@alutiiqmuseum.org.

SUPPLEMENTARY INFORMATION: Notice is here given in accordance with the Native American Graves Protection and Repatriation Act (NAGPRA), 25 U.S.C. 3003, of the completion of an inventory of human remains under the control of the Alutiiq Museum & Archaeological Repository, Kodiak, AK. The human remains were removed from the Aleut Village North Archeological Site (49-AFG-00004), Afognak Island, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Alutiiq Museum & Archaeological Repository professional staff in consultation with representatives of the Native Village of Afognak and the Native Village of Port Lions.

History and Description of the Remains

In June 2012, human remains representing, at minimum, one individual were discovered in a sample of faunal material collected from the Aleut Village North archeological site (49-AFG-00004) on Afognak Island, AK. The site is on a Native allotment conveyed to the late Fred Pestrikoff and now owned by his heir Karen Pestrikoff. From 1997 to 2000, the Pestrikoff family allowed excavations on this land as part of the Native Village of Afognak's Dig Afognak Program. Beginning in 1997, artifacts and samples from the project were deposited at the Alutiiq Museum & Archaeological Repository for care, as a loan from Karen Pestrikoff under museum accession number AM330. In 2012, the cranial fragment was identified by zooarcheologist Bob Kopperl, while completing an inventory of faunal materials. No known individual was identified. No associated funerary objects are present. Staff contacted Karen Pestrikoff regarding the human remains and she signed a transfer of control allowing the museum to separate the human remains from the collection for the purposes of repatriation. This occurred in November 2019.

The Aleut Village North Archeological Site is a prehistoric and historic settlement north of Afognak Village on the southeast coast of Afognak Island. The site has a well-preserved midden that dates to the Kachemak and Koniag traditions, as well as historic deposits of material. Human remains have been found at this site in the past (73 FR 79903), and have been determined to be Kodiak Alutiiq. Archeological data indicates that the ancestors of the Kodiak Alutiiq people have inhabited the Kodiak region for over 7,500 years. As the prehistoric midden deposit in which the cranial fragment was found covers this time span, the human remains are related to the contemporary Kodiak Alutiiq people. Specifically, the human remains are from an area of the Kodiak Archipelago traditionally used by members of the Native Village of Afognak and the Native Village of Port Lions.

Determinations Made by the Alutiiq Museum & Archaeological Repository

Officials of the Alutiiq Museum & Archaeological Repository have determined that:

• Pursuant to 25 U.S.C. 3001(9), the human remains described in this notice represent the physical remains of one individual of Native American ancestry.

• Pursuant to 25 U.S.C. 3001(2), there is a relationship of shared group identity that can be reasonably traced between the Native American human remains and the Native Village of Afognak and the Native Village of Port Lions.

Additional Requestors and Disposition

Lineal descendants or representatives of any Indian Tribe or Native Hawaiian organization not identified in this notice that wish to request transfer of control of these human remains should submit a written request with information in support of the request to Dr. April Laktonen Counceller, Alutiiq Museum & Archaeological Repository, 215 Mission Road First Floor, Kodiak, AK 99615, telephone (844) 425-8844, email april@alutiiqmuseum.org, by August 18, 2021. After that date, if no additional requestors have come forward, transfer of control of the human remains to the Native Village of Afognak and the Native Village of Port Lions may proceed.

The Alutiiq Museum & Archaeological Repository is responsible for notifying the Native Village of Afognak and the Native Village of Port Lions that this notice has been published.

Dated: July 7, 2021.
Melanie O'Brien,
Manager, National NAGPRA Program.

[FR Doc. 2021-15250 Filed 7-16-21; 8:45 am]

BILLING CODE 4312-52-P